DEPARTMENT OF HEALTH AND HUMAN SERVICES

Centers for Disease Control and Prevention

[Docket No. CDC-2019-0008]

Control of Communicable Diseases: Foreign; Requirements Relating to Collection, Storage, and Transmission of Airline and Vessel Passenger, Crew, and Flight and Voyage Information for Public Health Purposes

AGENCY: Centers for Disease Control and Prevention (CDC), Department of Health and Human Services (HHS).

ACTION: Notice with comment period.

SUMMARY: The Centers for Disease Control and Prevention (CDC) in the Department of Health and Human Services (HHS) announces the opening of a docket to obtain comment on a report as required by agency rules that relate to the transmission of passenger, crew, and flight/voyage information for public health purposes. The report can be found at https://www.cdc.gov/quarantine/final-rule-communicable-diseases.html. Interested members of the public may submit comment regarding this report.

DATES: Written comments must be received on or before March 14, 2019.

ADDRESSES: You may submit comments, identified by Docket No. CDC-2019-0008 by any of the following methods:

• Federal eRulemaking Portal: http://www.regulations.gov. Follow the instructions for submitting comments.

• Mail: Centers for Disease Control and Prevention, 1600 Clifton Road NE, Mailstop H16-4, Atlanta, Georgia 30329;

Instructions: All submissions received must include the agency name and Docket Number. All relevant comments received will be posted without change to http://regulations.gov, including any personal information provided. For access to the docket to read background documents or comments received, go to http://www.regulations.gov.

FOR FURTHER INFORMATION CONTACT: For questions concerning this notice: Ashley C. Altenburger, JD, Centers for Disease Control and Prevention, 1600 Clifton Road NE, Mailstop H16-4, Atlanta, Georgia 30329; telephone 404-498-1600; email dgmqpolicyoffice@cdc.gov.

SUPPLEMENTARY INFORMATION:

Public Participation

Interested persons or organizations are invited to participate by submitting written views, recommendations, and data.

Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign.

Additional Background

HHS/CDC published the final rule for the Control of Communicable Diseases on January 19, 2017, which included amendments to the domestic (interstate) and foreign quarantine regulations for the control of communicable diseases. The rule became effective on March 21, 2017. CDC regulations at 42 CFR 71.4 (airlines) and 42 CFR 71.5 (vessels) relate to the transmission of passenger, crew, and flight/voyage information for public health purposes; both contain subsections that state:

No later than February 21, 2019, the Secretary or Director will publish and seek comment on a report evaluating the burden of this section on affected entities and duplication of activities in relation to mandatory passenger data submissions to [U.S. Department of Homeland Security, Customs and Border Patrol] DHS/CBP. The report will specifically recommend actions that streamline and facilitate use and transmission of any duplicate information collected.

On February 12, 2019, CDC published a report to its website evaluating the burdens these regulatory provisions may have generated on the airline and ship industries since they became effective on March 21, 2017. The report can be found at https://www.cdc.gov/quarantine/final-rule-communicable-diseases.html. The public comment period will end on March 14, 2019.

Sandra Cashman,
Executive Secretary, Centers for Disease Control and Prevention.

[FR Doc. 2019-02035 Filed 2-11-19; 8:45 am]

BILLING CODE 4163-18-P